DEPARTMENT OF HOMELAND SECURITY

[Docket No.: DHS-2025-0009]

Notice of Intent To Prepare a Programmatic Environmental Assessment for the Nationwide Operation of Counter-Unmanned Aircraft Systems

AGENCY: Department of Homeland Security.

ACTION: Notice of intent; request for comments and interagency coordination.

SUMMARY: The Department of Homeland Security (DHS) intends to prepare a programmatic environmental assessment (PEA) to consider the potential environmental impacts associated with the research, development, testing and evaluation (RDT&E) of counter-unmanned aircraft systems (C-UAS), and nationwide C-UAS operational and training activities (Proposed Action). DHS is seeking public input regarding important environmental issues that should be considered in the PEA. The PEA will be used to assess at a national scale the environmental impacts that may occur from the Proposed Action and establish standard Best Management Practices (BMPs) by which DHS can reduce such impacts. DHS invites federal agencies with jurisdiction by law and/or special expertise with respect to any potential environmental impact associated with the Proposed Action to formally cooperate with DHS in the preparation of the PEA.

DATES: Comments are due by April 7, 2025.

ADDRESSES: Comments may be submitted by either of the following methods:

• Regulations.gov web portal: Navigate to https://www.regulations.gov and search for Docket No. DHS-2025-0009 to submit public comments. Follow the online instructions for submitting comments. All public comments received are subject to the Freedom of Information Act and will be posted in their entirety at this site and available for public viewing. Do not include any information you would not like to be made publicly available.

• By email: Emailed comments should be sent to: Jennifer Hass, Director, Environmental Planning and Historic Preservation, at sep-ephp@hq.dhs.gov.

All comments received may be made publicly available without change, including any personal information provided.

FOR FURTHER INFORMATION CONTACT: Jennifer Hass, Director, Environmental Planning and Historic Preservation Program, Department of Homeland Security at (202) 580-5763 or sep-ephp@hq.dhs.gov.

SUPPLEMENTARY INFORMATION:

Proposed Action: DHS proposes to perform RDT&E of C-UAS and conduct operational and training activities to support existing and emerging DHS mission requirements nationwide. C-UAS are a system or device capable of tracking, disabling, disrupting, or seizing control of an unmanned aircraft or unmanned aircraft system (UAS). UAS have become a security concern in recent years due to the ease with which they can aid in intelligence gathering and be used for malicious activities. DHS has statutory authority under the Preventing Emerging Threats Act of 2018 to counter credible threats from UAS to the safety or security of certain facilities or assets, which are designated based on their importance to the security missions of DHS and Components.

The purpose of the Proposed Action is to support RDT&E of C-UAS technologies and to deploy C-UAS in operational settings to detect, identify, monitor, track, and mitigate (DIMT-M) (passively and actively) threats posed by UAS, including across the radio frequency spectrum. The Proposed Action is needed to enhance DHS's ability to use C-UAS technologies, monitor emerging threats, protect DHS's missions, and defend the Nation from UAS threats and malicious activity effectively and reliably. The use of C-UAS would support existing and emerging mission requirements of the various Components within DHS and facilitate their services and strategies essential to the Nation's security, safety, and emergency response.

Within DHS, the use and application of C-UAS are actively being researched and tested to better understand C-UAS capabilities to support DIMT-M activities. DHS conducts C-UAS activities nationwide, with some recurring in certain locations based on testing and demonstration needs.: Additionally, authorized Components may use C-UAS technologies for operational use, trainings, and demonstrations nationwide, including along the southwest and northern borders.

Under the Proposed Action, DHS and its Components would continue ongoing RDT&E activities, but on a nationwide scale. The Proposed Action also includes the nationwide use and operation of C-UAS, outside of a testing environment, to conduct training and operational activities, such as law enforcement and security. The Proposed Action includes all elements related to the training, operation, maintenance, and use of C-UAS, including mitigation. This would allow DHS to continue its current testing of C-UAS while also enabling DHS and its Components to use C-UAS in an operational setting to support mission requirements.

Potential impacts for this Proposed Action would be associated with the testing, operation, and use of C-UAS, including supporting systems, and mobilization to a needed location, if applicable. All C-UAS currently in use by DHS are either ground- or vehicle-mounted. C-UAS maintenance would occur in existing DHS facilities using standard tools and materials, and in accordance with standard operating procedures for equipment maintenance.

DHS has decided to prepare a PEA for this Proposed Action to assist agency planning, decision making, and establish standard best management practices. This notice starts the scoping process for the PEA and solicits information regarding important environmental issues and alternatives that should be considered in the PEA. Additionally, DHS will use the scoping process to identify and eliminate from detailed analysis issues that are not significant or that have been analyzed by prior environmental review. DHS also invites agencies with jurisdiction by law and/or special expertise with respect to environmental issues of this Proposed Action to formally cooperate with DHS in preparation of the PEA.

The PEA analyses will also support compliance with other environmental statutes (e.g., National Historic Preservation Act, Endangered Species Act, Clean Air Act, etc.).

Request for Comments: Federal agencies; Tribal, state, and local governments; the public; and other interested parties are requested to comment on the important issues to be considered in the PEA. Comments must be provided by April 7, 2025. For information on how to submit, see the ADDRESSES section above. A mailing address to submit hardcopy comments can be provided upon request.

(Authority: National Environmental Policy Act (NEPA) of 1969 (42 U.S.C. 4321 et seq.), DHS Management Directive 023-01, rev. 01 (Implementation of NEPA), and DHS Instruction Manual 023-01-001-01, rev. 01 (Implementation of the NEPA).)

Jennifer Hass,
Director, Environmental Planning and Historic Preservation Program, Office of the Chief Readiness Support Officer, Department of Homeland Security.

[FR Doc. 2025-03532 Filed 3-6-25; 8:45 am]

BILLING CODE 9112-FF-P